DEPARTMENT OF TRANSPORTATION

Federal Aviation Administration

14 CFR Part 71

[Docket No. FAA-2023-0721; Airspace Docket No. 22-ASW-16]

RIN 2120-AA66

Revocation of Jet Route J-184 and Establishment of Area Navigation Route Q-180; Southwest United States

AGENCY: Federal Aviation Administration (FAA), DOT.

ACTION: Notice of proposed rulemaking (NPRM).

SUMMARY: This action proposes to revoke Jet Route J-184 and establish Area Navigation (RNAV) route Q-180 in the southwest United States. The existing Jet Route has service limitations associated with signal coverage related issues. The new RNAV route would replace the Jet Route, as well as provide additional RNAV routing within the National Airspace System (NAS) in support of transitioning it from a ground-based to satellite-based navigation system.

DATES: Comments must be received on or before May 8, 2023.

ADDRESSES: Send comments identified by FAA Docket No. FAA-2023-0721 and Airspace Docket No. 22-ASW-16 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the enroute structure as necessary to preserve the safe and efficient flow of air traffic within the NAS.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004 and United States Area Navigation Routes (Q-routes) are published in paragraph 2006 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

To support of the large amount of air traffic transiting the NAS between the west coast and the southeast United States, the FAA requires aircraft flying between the Phoenix, AZ, area and West Texas area to be on Jet Routes, including J-184, when flying above 18,000 feet mean sea level (MSL) or Flight Level 180 (FL180). This requirement ensures a safe, efficient flow of air traffic through the area, prevents air traffic bottlenecks, and keeps aircraft clear of the Air Traffic Control Airspace Areas (ATCAA), the White Sands Missile Range (WSMR), and the R-5107 restricted areas located south of WSMR that exist in the area.

During a periodic flight inspection of the Deming, NM, Very High Frequency (VHF) Omni-Directional Range (VOR)/Tactical Air Navigation (VORTAC) navigational aid (NAVAID) conducted June 3-4, 2021, the FAA identified the Deming VORTAC 274° radial was out of tolerance and not available for navigational purposes on Jet Route J-184. As a result of the out of tolerance signal coverage finding, the FAA published a Notice to Air Missions (NOTAM) indicating that the segment of J-184 from the Deming VORTAC 274° radial to the Buckeye, AZ, VORTAC was not available except to aircraft equipped with a suitable Area Navigation (RNAV) system with Global Positioning Service (GPS) capability. The FAA has been unable to overcome the Deming VORTAC 274° radial signal coverage issue since it was identified. The NOTAM requiring aircraft flying J-184 between the Deming and Buckeye VORTACs to be RNAV GPS equipped has remained in effect.

To address the requirement for aircraft flying J-184 between the Deming and Buckeye VORTACs to be RNAV GPS equipped, the FAA is planning to replace J-184 with a new RNAV route, Q-180, that would overlay the J-184 route of flight. The new Q-route would extend between the Buckeye, AZ, VORTAC located west of Phoenix, AZ, and the Newman, TX, VORTAC located in West Texas. The new Q-180 would mitigate the Deming VORTAC signal coverage issue, enable removal of the NOTAM requiring RNAV GPS equipage on J-184, and continue supporting the safe, efficient flow of air traffic equipped with RNAV capabilities between the Phoenix area and the West Texas area. Lastly, the new Q-route would support the FAA's Next Generation Air Transportation System (NextGen) efforts to modernize the NAS navigation system from ground-based to satellite-based.

The Proposal

The FAA is proposing an amendment to 14 CFR part 71 to revoke Jet Route J-184 and establish RNAV route Q-180 due to service limitations associated with signal coverage related issues on J-184. The proposed Air Traffic Service (ATS) route actions are described below.

J-184: J-184 currently extends between the Buckeye, AZ, VORTAC and the Newman, TX, VORTAC. The FAA proposes to remove the route in its entirety.

Q-180: Q-180 is a new RNAV route that would extend between the Buckeye, AZ, VORTAC and the Newman, TX, VORTAC NAVAIDs. This new Q-route would provide RNAV routing along the same route of flight as Jet Route J-184 and would retain flight safety and NAS efficiency for aircraft transiting between the Phoenix, AZ, and El Paso, TX, areas.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-184 [Removed]

* * * * *

Paragraph 2006 United States Area Navigation Routes.

* * * * *

Q-180 Buckeye, AZ (BXK) to Newman, TX (EWM) [New]
Buckeye, AZ (BXK) | VORTAC | (Lat. 33°27′12.45″ N, long. 112°49′28.54″ W)
WOBUG, NM | FIX | (Lat. 32°35′24.04″ N, long. 108°53′44.19″ W)
Deming, NM (DMN) | VORTAC | (Lat. 32°16′31.99″ N, long. 107°36′19.80″ W)
Newman, TX (EWM) | VORTAC | (Lat. 31°57′06.43″ N, long. 106°16′20.85″ W)

* * * * *

Issued in Washington, DC, on March 15, 2023.
Brian Konie,
Acting Manager, Airspace Rules and Regulations.

[FR Doc. 2023-05655 Filed 3-22-23; 8:45 am]

BILLING CODE 4910-13-P